DEPARTMENT OF ENERGY

Federal Energy Regulatory Commission

Notice of Intent To File License Application and Filing of Pre-Application Document

April 7, 2006.

a. Type of Filing: Notice of Intent to File License Application.

b. Project No.: 2211-002.

c. Dated Filed: March 31, 2006.

d. Submitted by: PSI Energy.

e. Name of Project: Markland Hydroelectric Project.

f. Location: On the Ohio River, in Switzerland County, Indiana. The project occupies about 1 acre of United States lands administered by the U.S. Army Corps of Engineers.

g. Filed Pursuant to: 18 CFR 5.3 of the Commission's regulations.

h. Potential Applicant Contact: Frank Weider, PSI Energy, 139 East Fourth Street, Cincinnati, OH 45201; (513) 287-3132; e-mail—frank.weider@cinergy.com.

i. FERC Contact: Dianne Rodman at (202) 502-6077; or e-mail at dianne.rodman@ferc.gov.

j. PSI Energy filed its request to use the Traditional Licensing Process on July 1, 2005. The Director of the Office of Energy Projects approved PSI Energy's request to use the Traditional Licensing Process on December 1, 2005.

k. With this notice, we are initiating informal consultation with: (a) The U.S. Fish and Wildlife Service under section 7 of the Endangered Species Act and the joint agency regulations thereunder at 50 CFR part 402; and (b) the Indiana State Historic Preservation Officer, as required by section 106, National Historical Preservation Act, and the implementing regulations of the Advisory Council on Historic Preservation at 36 CFR 800.2.

l. With this notice, we are designating PSI Energy as the Commission's non-Federal representative for carrying out informal consultation, pursuant to section 7 of the Endangered Species Act and section 106 of the National Historic Preservation Act.

m. PSI Energy filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

o. With this notice, we are soliciting comments on the PAD. All comments on the PAD should be sent to the address above in paragraph h. In addition, all comments on the PAD and all communications to and from Commission staff related to the merits of the potential application must be filed with the Commission (original and eight copies) at the following address: Magalie R. Salas, Secretary, Federal Energy Regulatory Commission, 888 First Street, NE., Washington, DC 20426. All filings with the Commission must include the project name and number, and bear the heading “Comments on Pre-Application Document,” or “Communications to and from Commission Staff.” Any individual or entity interested in commenting on the PAD must do so by June 5, 2006.

Comments on the PAD and other permissible forms of communications with the Commission may be filed electronically via the Internet in lieu of paper. The Commission strongly encourages electronic filings. See 18 CFR 385.2001(a)(1)(iii) and the instructions on the Commission's Web site (http://www.ferc.gov) under the “e-filing” link.

Magalie R. Salas,
Secretary.

[FR Doc. E6-5556 Filed 4-13-06; 8:45 am]

BILLING CODE 6717-01-P